DEPARTMENT OF COMMERCE

Foreign-Trade Zones Board

[B-04-2017]

Foreign-Trade Zone (FTZ) 277—Western Maricopa County, Arizona Notification of Proposed Production Activity; IRIS USA, Inc. (Plastic Household Storage/Organizational Containers), Surprise, Arizona

IRIS USA, Inc. (IRIS) submitted a notification of proposed production activity to the FTZ Board for its facility in Surprise, Arizona, within FTZ 277. The notification conforming to the requirements of the regulations of the FTZ Board (15 CFR 400.22) was received on December 23, 2016.

IRIS has a pending production notification to produce plastic household storage/organizational containers and pet carriers/pens within Site 12 of FTZ 277 (B-68-2016, 81 FR 71045-71046, October 14, 2016). The current request would add a foreign-status component (steel wire dividers) to the scope of authority. Pursuant to 15 CFR 400.14(b), additional FTZ authority would be limited to the specific foreign-status component described in the submitted notification (as described below) and subsequently authorized by the FTZ Board.

Production under FTZ procedures could exempt IRIS from customs duty payments on the foreign-status component used in export production. On its domestic sales, IRIS would be able to choose the duty rates during customs entry procedures that apply to finished products—plastic household storage/organizational containers and pet carriers/pens (duty rates range from free to 5.3%)—authorized by the FTZ Board for the foreign-status steel wire dividers (duty rate, 3.4%). Customs duties also could possibly be deferred or reduced on foreign-status production equipment.

Public comment is invited from interested parties. Submissions shall be addressed to the FTZ Board's Executive Secretary at the address below. The closing period for their receipt is February 27, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: January 9, 2017.
Andrew McGilvray,
Executive Secretary.

[FR Doc. 2017-00867 Filed 1-13-17; 8:45 am]

BILLING CODE 3510-DS-P